NUCLEAR REGULATORY COMMISSION

10 CFR Part 50

[NRC-2014-0238]

RIN 3150-AJ48

Definition of a Utilization Facility

AGENCY: Nuclear Regulatory Commission.

ACTION: Direct final rule; correction.

SUMMARY: The U.S. Nuclear Regulatory Commission (NRC) is correcting the docket identification number and Regulation Identifier Number (RIN) for a Direct Final Rule published in the Federal Register (FR) on October 17, 2014, to amend the NRC's regulations to add SHINE Medical Technologies, Inc.'s accelerator-driven subcritical operating assemblies, as described in the application assigned docket number 50-608, to the definition of utilization facility.

DATES: This correction is effective November 5, 2014.

ADDRESSES: Please refer to Docket ID NRC-2014-0238 when contacting the NRC about the availability of information for this document. You may obtain publicly-available information related to this direct final rule by any of the following methods:

• Federal Rulemaking Web site: Go to http://www.regulations.gov and search for Docket ID NRC-2014-0238. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, at 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Steven Lynch, Office of Nuclear Reactor Regulation; U.S. Nuclear Regulatory Commission, Washington, DC 20555-0001, telephone: 301-415-1524; email: Steven.Lynch@nrc.gov.

SUPPLEMENTARY INFORMATION: On October 17, 2014 (79 FR 62329), the NRC published a Direct Final Rule to amend the NRC's regulations to add SHINE Medical Technologies, Inc.'s accelerator-driven subcritical operating assemblies, as described in the application assigned docket number 50-608, to the definition of utilization facility. That rule incorrectly identified the docket identification number for the action as NRC-2013-0053, and the RIN for the action as 3150-AJ18.

Correction

Accordingly, in direct final rule FR Doc. 2014-24732, on page 62329, in the Friday issue of October 17, 2014 (79 FR 62329), the docket identification number NRC-2013-0053 in the heading of the document and in all other instances on page 62329 and 62330, is revised to read NRC-2014-0238. In addition, the RIN, 3150-AJ18, in the heading of the document is revised to read 3150-AJ48.

Dated at Rockville, Maryland, this 30th day of October, 2014.
For the Nuclear Regulatory Commission.
Cindy Bladey,
Chief, Rules, Announcements, and Directives Branch, Division of Administrative Services, Office of Administration.

[FR Doc. 2014-26254 Filed 11-4-14; 8:45 am]

BILLING CODE 7590-01-P